DEPARTMENT OF HEALTH AND HUMAN SERVICES

National Institutes of Health

Submission for OMB Review; 30-Day Comment Request Data and Specimen Hub (DASH) (Eunice Kennedy Shriver National Institute of Child Health and Human Development); Correction

AGENCY: National Institutes of Health, HHS.

ACTION: Notice; correction.

SUMMARY: The Department of Health and Human Services, National Institutes of Health published a Notice in the Federal Register on November 7, 2018. That Notice inadvertently contained an error in the SUPPLEMENTARY INFORMATION section.

FOR FURTHER INFORMATION CONTACT: Dr. Jennifer Guimond, Project Clearance Liaison, Office of Science Policy, Reporting, and Program Analysis, Eunice Kennedy Shriver National Institute of Child Health and Human Development, National Institutes of Health, 31 Center Drive, Room 2A18, Bethesda, Maryland, 20892 or call non-toll-free number (301) 496-1877 or Email Jennifer.guimond@nih.gov.

SUPPLEMENTARY INFORMATION: On November 7, 2018, the Department of Health and Human Services, National Institutes of Health published a Notice in the Federal Register on pages 55729-55730 (83 FR 55729) that inadvertently contained an error in the Number of responses per respondent column. The purpose of this notice is to correct the total number for this column to read 464.

Dated: November 20, 2018.
Jennifer Guimond,
Project Clearance Liaison, Eunice Kennedy Shriver National Institute of Child Health and Human Development, National Institutes of Health.

[FR Doc. 2018-25784 Filed 11-26-18; 8:45 am]

BILLING CODE 4140-01-P